DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number 1660-0008, FEMA Form 81-31, FEMA Form 81-65.

SUMMARY: The Federal Emergency Management Agency, as part of its continuing effort to reduce paperwork and respondent burden, invites the general public and other Federal agencies to take this opportunity to comment on a revised information collection. In accordance with the Paperwork Reduction Act of 1995, this notice seeks comments concerning Elevation Certificate and the Floodproofing Certificate.

SUPPLEMENTARY INFORMATION: The National Flood Insurance Program (NFIP) requires the elevation or floodproofing of new or substantially improved structures in designated Special Flood Hazard Areas. As part of the agreement for making flood insurance available in a community, the NFIP requires the community to adopt a floodplain management ordinance that meets or exceeds the minimum requirements of the NFIP. Title 44 CFR parts 61.7 and 61.8 require proper investigation to estimate the risk premium rates necessary to provide flood insurance.

Collection of Information

Title: Post Construction Elevation Certificate/Floodproofing Certificate.

Type of Information Collection: Revision of a currently approved collection.

OMB Number: 1660-0008.

Form Numbers: FEMA Form 81-31, Elevation Certificate, FEMA Form 81-65, Floodproofing Certificate.

Abstract: The Elevation Certificate and Floodproofing Certificate are used in conjunction with the application for flood insurance. The certificates are required for proper rating of post Flood Insurance Rate Map (FIRM) structures, which are buildings constructed after the publication of the FIRM, for flood insurance in Special Flood Hazard Areas. In addition, the Elevation Certificate is needed for pre-FIRM structures being rated under post-FIRM flood insurance rules. The certificates provide community officials and others standardized documents to readily record needed building elevation information. NFIP policyholders/applicants provide the appropriate certificate to insurance agents. The certificate is then used in conjunction with the insurance application so that the building can be properly rated for flood insurance.

Affected Public: Individuals and households, Business or other for-profit, State, local or Tribal Government.

Estimated Total Annual Burden Hours: 8,245 hours.

Table A.12—Estimated Annualized Burden Hours and Costs
Type of respondent | Form name/form number | Number of respondents | Number of responses per respondent | Avg. burden per response (in hours) | Total annual burden (in hours) | Avg. hourly wage rate | Total annual respondent cost
Individuals or households | Elevation Certificate FEMA 81-31 and Instructions (including Web-based training module) | 2,190 | 1 | 3.75 | 8,212.5 | $19.56 | $160,636.50
Business or other for profit (surveyors) | Floodproofing Certificate FEMA 81-65 | 10 | 1 | 3.25 | 32.5 | 33.11 | 1,076.08
Total |  | 2,200 |  |  | 8,245 |  | 161,712.58

Estimated Cost: The estimated annualized cost to respondents based on wage rate categories is $161,712.58. The estimated cost to respondents for purchasing professional services required to complete the certificates is $770,000. The estimated annual cost to the Federal Government is $21,080.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 17, 2008.

ADDRESSES: Interested persons should submit written comments to Office of Management, Records Management Division, Federal Emergency Management Agency, 500 C Street, SW., Washington, DC 20472, Mail Drop Room 301.

FOR FURTHER INFORMATION CONTACT: Contact Mary Ann Chang, Insurance Examiner, Mitigation Division, (703) 605-0421 for additional information. You may contact the Records Management Branch for copies of the proposed collection of information at facsimile number (202) 646-3347 or e-mail address: FEMA-Information-Collections@dhs.gov.

Dated: September 11, 2008.
John A. Sharetts-Sullivan,
Director, Records Management Division, Office of Management, Federal Emergency Management Agency, Department of Homeland Security.

[FR Doc. E8-21748 Filed 9-16-08; 8:45 am]

BILLING CODE 9110-11-P